DEPARTMENT OF HOUSING AND URBAN DEVELOPMENT

[Docket No. FR-5030-FA-33]

Notice of Funding Awards; Public Housing Neighborhood Networks for Fiscal Year 2006

AGENCY: Office of Public and Indian Housing, HUD.

ACTION: Announcement of Funding Awards.

SUMMARY: In accordance with Section 102(a)(4)(C) of the Department of Housing and Urban Development Reform Act of 1989, this announcement notifies the public of funding decisions made by the Department for funding under the FY 2006 Notice of Funding Availability (NOFA) for the Public Housing Neighborhood Networks Program funding for Fiscal Year 2006. This announcement contains the consolidated names and addresses of those award recipients selected for funding based on the rating and ranking of all applications.

FOR FURTHER INFORMATION CONTACT: For questions concerning the FY 2006 Public Housing Neighborhood Networks awards, contact the Office of Public and Indian Housing's Grants Management Center, Director, Iredia Hutchinson, Department of Housing and Urban Development, Washington, DC, telephone (202) 358-0221. For the hearing or speech impaired, these numbers may be accessed via TTY (text telephone) by calling the Federal Information Relay Service at (800) 877-8339. (Other than the “800” TTY number, these telephone numbers are not toll-free.)

SUPPLEMENTARY INFORMATION: The authority for the $7,500,000 in four-year budget authority for Public Housing Neighborhood Networks technology centers is found in the Transportation, Treasury, Housing and Urban Development, the Judiciary, the District of Columbia, and Independent Agencies Appropriations Act, FY2006 (Pub. L. 109-115). The allocation of housing assistance budget authority is pursuant to the provisions of 24 CFR part 791, subpart D, implementing section 213 (d) of the Housing and Community Development Act of 1974, as amended. Additionally, unobligated funds were added to the $7,500,000.

This program is intended to promote the development of local strategies to coordinate the use of assistance under the Public Housing Neighborhood Networks program with public and private resources to enable participating families to achieve economic independence and self-sufficiency.

The Fiscal Year 2006 awards announced in this Notice were selected for funding in a competition announced in a Federal Register NOFA published on March 8, 2006 (71 FR. 3382). Applications were scored based on the selection criteria in that Notice and funding selections made based on the rating and ranking of applications within each State.

In accordance with Section 102(a)(4)(C) of the Department of Housing and Urban Development Reform Act of 1989 (103 Stat. 1987, 42 U.S.C. 3545), the Department is publishing the names, addresses, and amounts of the 53 awards made under the Public Housing Neighborhood Networks competition.

Dated: December 10, 2007.
Orlando J. Cabrera,
Assistant Secretary for Public and Indian Housing.

Appendix A.—Fiscal Year 2006 Funding Awards for the PIH Neighborhood Networks Program
Recipient | Address | City | State | Zip code | Amount
Alaska Housing Finance Corporation | P.O. Box 101020, 4300 Boniface Parkway | Anchorage | AK | 99510-1020 | $199,905
Tuscaloosa Housing Authority | 2808 10th Avenue | Tuscaloosa | AL | 35403 | 200,000
City of Phoenix Housing Department | 251 West Washington Street, 4th Floor | Phoenix | AZ | 85003 | 350,000
Housing Authority of the City of Oxnard | 435 South D Street | Oxnard | CA | 93030 | 150,000
Housing Authority of the County of San Bernardino | 715 East Brier Drive | San Bernardino | CA | 92408-2841 | 399,000
San Diego Housing Commission | 1650 Newton Street | San Diego | CA | 92113 | 200,000
Housing Authority of the City & County of Denver | 777 Grant Street | Denver | CO | 80203 | 500,000
Meriden Housing Authority | 22 Church Street | Meriden | CT | 06451 | 150,000
The Housing Authority of the City of Norwalk | 24½ Monroe Street | Norwalk | CT | 06856-0508 | 400,000
Housing Authority of the City of Fort Myers | 4224 Michigan Avenue | Fort Myers | FL | 33916 | 300,000
Housing Authority of Lakeland | 430 Hartsell Avenue | Lakeland | FL | 33815 | 100,000
Housing Authority of the City of Daytona Beach | 211 North Ridgewood Avenue, Suite 200 | Daytona Beach | FL | 32114 | 100,000
Jacksonville Housing Authority | 1300 Broad Street | Jacksonville | FL | 32202 | 150,000
Carrollton Housing Authority | 1 Roop Street | Carrollton | GA | 30117 | 150,000
Northwest Georgia Housing Authority | 800 North Fifth Avenue | Rome | GA | 30162 | 400,000
The Housing Authority of the City of Augusta, Georgia | P.O. Box 3246, 1435 Walton Way | Augusta | GA | 30914-3246 | 200,000
The Housing Authority of the City of Bloomington | 104 East Wood Street | Bloomington | IL | 61701 | 100,000
Winnebago County Housing Authority | 2901 Searles Avenue | Rockford | IL | 61101-2781 | 165,252
Housing Authority of Bowling Green | 247 Double Springs Road | Bowling Green | KY | 42101 | 150,000
Housing Authority of Murray | 716 Nash Drive | Murray | KY | 42071 | 150,000
Cambridge Housing Authority | 675 Massachusetts Avenue | Cambridge | MA | 02139 | 200,000
Springfield Housing Authority | 25 Saab Court | Springfield | MA | 01104 | 400,000
Housing Authority of Baltimore City | 417 East Fayette Street | Baltimore | MD | 21202 | 546,700
Portland Housing Authority | 14 Baxter Boulevard | Portland | ME | 04101-1822 | 200,000
Housing Authority of Kansas City, Missouri | 301 East Armour | Kansas City | MO | 64111 | 199,889
Natchez Housing Authority | 2 Auburn Avenue | Natchez | MS | 39120 | 150,000
City of Concord Housing Department | P.O. Box 308, 283 Harold Goodman Circle | Concord | NC | 28026-0308 | 300,000
Gastonia Housing Authority | P.O. Box 2398, 340 West Long Avenue | Gastonia | NC | 28053 | 150,000
Greensboro Housing Authority | P.O. Box 21287, 450 North Church Street | Greensboro | NC | 27420-1287 | 200,000
Housing Authority of the City of Greenville | 1103 Broad Street | Greenville | NC | 27834 | 163,950
Housing Authority of the City of Camden | 1300 Admiral Wilson Boulevard | Camden | NJ | 08102 | 199,985
Albany Housing Authority | 200 South Pearl Street | Albany | NY | 12202-1839 | 200,000
Municipal Housing Authority of the City of Schenectady | 375 Broadway | Schenectady | NY | 12305 | 200,000
New York City Housing Authority | 250 Broadway | New York | NY | 10007 | 600,000
Syracuse Housing Authority | 516 Burt Street | Syracuse | NY | 13202 | 399,930
Troy Housing Authority | One Eddy's Lane | Troy | NY | 12180 | 400,000
Cuyahoga Metropolitan Housing Authority | 1441 West 25th Street | Cleveland | OH | 44113 | 250,000
Dayton Metropolitan Housing Authority | P.O. Box 8750, 400 Wayne Avenue | Dayton | OH | 45401-8750 | 497,211
Housing Authority of the City of Tulsa | P.O. Box 6369, 415 East Independence Street | Tulsa | OK | 74148-0369 | 213,734
Allentown Housing Authority | 1339 Allen Street | Allentown | PA | 18192-2191 | 400,000
Housing Authority of the City of York | P.O. Box 1963, 31 South Broad Street | York | PA | 17403 | 200,000
Philadelphia Housing Authority | 12 South 23rd Street | Philadelphia | PA | 19103 | 300,000
Housing Authority of the City of Newport | One York Street | Newport | RI | 02840 | 128,834
Housing Authority of the City of El Paso | 5300 Paisano Drive | El Paso | TX | 79905 | 250,000
Housing Authority of the City of Fort Worth | 1201 East 13th Street | Fort Worth | TX | 76102 | 200,000
The Housing Authority of the City of Galveston, Texas | 4700 Broadway | Galveston | TX | 77551 | 250,000
Danville Redevelopment and Housing Authority | 651 Cardinal Place | Danville | VA | 24541 | 300,000
Fairfax County Redevelopment and Housing Authority | 3700 Pender Drive, Suite 300 | Fairfax | VA | 22030 | 200,000
Roanoke Redevelopment and Housing Authority | 2624 Salem Turnpike, Northwest | Roanoke | VA | 24017-0359 | 400,000
Housing Authority of the City of Tacoma | 902 South L Street | Tacoma | WA | 98405 | 200,000
King County Housing Authority | 600 Andover Park West | Tukwila | WA | 98188 | 350,000
Seattle Housing Authority | P.O. Box 19028, 120 6th Avenue North | Seattle | WA | 98109-1028 | 247,825
The Huntington WV Housing Authority | P.O. Box 2183, 300 West Seventh Avenue | Huntington | WV | 25722 | 325,255

[FR Doc. E7-25150 Filed 12-27-07; 8:45 am]

BILLING CODE 4210-67-P